DEPARTMENT OF AGRICULTURE

Forest Service

Boundary Establishment for Sipsey Fork of the West Fork National Wild and Scenic River, Bankhead National Forest, Lawrence and Winston Counties, Alabama

AGENCY: Forest Service, USDA.

ACTION: Notice of availability.

SUMMARY: In accordance with Section 3(b) of the Wild and Scenic Rivers Act, the USDA Forest Service, Washington Office, is transmitting the final boundary of the Sipsey Fork of the West Fork National Wild and Scenic River to Congress.

FOR FURTHER INFORMATION CONTACT: Information may be obtained by contacting the National Forests in Alabama Supervisor's Office, 2946 Chestnut Street, Montgomery, AL 36107; (334) 832-4470.

SUPPLEMENTARY INFORMATION: The Sipsey Fork of the West Fork Wild and Scenic River boundary is available for review at the following offices: USDA Forest Service, Yates Building, 14th and Independence Avenue SW, Washington, DC 20024; Southern Region, 1720 Peachtree Street NW, Atlanta, GA 30309; and, National Forests in Alabama Supervisor's Office, 2946 Chestnut Street, Montgomery, AL 36107.

The Sipsey Wild and Scenic Rivers Act and Alabama Addition Act (Pub. L. 100-547) of October 28, 1988 designated Sipsey Fork of the West Fork, Alabama, as a National Wild and Scenic River, to be administered by the Secretary of Agriculture. While Public Law 100-547 used the name “Sipsey Fork of the West Fork” in designating the river, it is commonly known as the Sipsey Fork of the Black Warrior River. As specified by law, the boundary will not be effective until ninety days after Congress receives the transmittal.

Dated: December 23, 2019.
Allen Rowley,
Associate Deputy Chief, National Forest System.

[FR Doc. 2020-00458 Filed 1-14-20; 8:45 am]

BILLING CODE 3411-15-P